DEPARTMENT OF COMMERCE

National Oceanic and Atmospheric Administration

[RTID 0648-XD954]

Western Pacific Fishery Management Council; Public Meetings

AGENCY: National Marine Fisheries Service (NMFS), National Oceanic and Atmospheric Administration (NOAA), Commerce.

ACTION: Notice of public meetings.

SUMMARY: The Western Pacific Fishery Management Council (Council) will hold its Education Committee (EC) and Social Science Planning Committee (SSPC) meetings to discuss and make recommendations on fishery management issues in the Western Pacific Region.

DATES: The EC meeting will be held on May 29, 2024, from 1 p.m. to 4 p.m., Hawaii Standard Time (HST). The SSPC meeting will be held on May 30, 2024, from 12 p.m. to 4 p.m., HST. See SUPPLEMENTARY INFORMATION for the agenda.

ADDRESSES: The EC meeting will be held by web conference via Webex.

The SSPC meeting will be held as a hybrid meeting for SSPC members and the public, with a remote participation option available via Webex. In-person attendance will be hosted at the Council office, 1164 Bishop Street, Suite 1400, Honolulu, HI 96813.

Instructions for connecting to the web conference and providing oral public comments will be posted on the Council website at www.wpcouncil.org. For assistance with the web conference connection, contact the Council office at (808) 522-8220.

FOR FURTHER INFORMATION CONTACT: Kitty M. Simonds, Executive Director, Western Pacific Fishery Management Council; telephone: (808) 522-8220.

SUPPLEMENTARY INFORMATION: A public comment period will be provided in the agendas. The order in which agenda items are addressed may change. The meetings will run as late as necessary to complete scheduled business.

Agenda for the EC Meeting

Wednesday, May 29, 2024, 1 p.m. to 4 p.m., HST

1. Welcome and Introductions

2. Review of the Last Education Committee Recommendations and Meeting

A. Council Education Committee Memorandum of Understanding Update

B. Working Group Reports

i. Input on Education Initiatives in Council 2025-2028 Program Plan

ii. Incorporate Fisheries Science into K-12 and Higher Education Classrooms

iii. Review Course Articulation Agreements Between 2-year and 4-year Higher Education Programs

C. Marine Resource Education Program in Pacific Islands Update

3. Council 2025-2028 Program Plan Update

4. Other Business

5. Public Comment

6. Discussion and Recommendations

Agenda for the SSPC Meeting

Thursday, May 30, 2024, 12 p.m. to 4 p.m., HST

1. Welcome and Introductions

2. Approval of Agenda

3. Annual Stock Assessment and Fishery Evaluation Reports

A. Socioeconomic Modules 2023 Report Updates

B. Fisher Observations

4. Review of Draft 2025-2029 Magnuson-Stevens Fishery Conservation and Management Act Research Priorities

5. Social, Economic, Ecological, and Management Process Review

6. Project Updates

7. Other Business

8. Public Comment

9. Discussion and Recommendations

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: May 8, 2024.
Rey Israel Marquez,
Acting Deputy Director, Office of Sustainable Fisheries, National Marine Fisheries Service.

[FR Doc. 2024-10391 Filed 5-10-24; 8:45 am]

BILLING CODE 3510-22-P